DEPARTMENT OF COMMERCE

National Oceanic and Atmospheric Administration

RIN 0648-XF077

Endangered and Threatened Species; Take of Anadromous Fish

AGENCY: National Marine Fisheries Service (NMFS), National Oceanic and Atmospheric Administration (NOAA), Commerce.

ACTION: Notice of intent to prepare an environmental impact statement; request for comments.

SUMMARY: Pursuant to the National Environmental Policy Act (NEPA), this notice announces that NMFS intends to obtain information necessary to prepare an Environmental Impact Statement (EIS) for salmon and steelhead hatchery programs currently operating in the Upper Willamette River Basin of Oregon. NMFS is also requesting public review and comment on four Hatchery and Genetic Management Plans (HGMPs) submitted by the U.S. Army Corps of Engineers (USACE) for evaluation and determination under Limit 5 of the Endangered Species Act (ESA) 4(d) rule for threatened salmon and steelhead. The HGMPs specify the propagation of hatchery spring Chinook salmon released in the North Santiam, South Santiam, McKenzie, Middle Fork Willamette, Coast Fork Willamette, and Molalla Rivers.

NMFS provides this notice to: (1) Advise other agencies and the public of its plans to analyze effects related to the action, and (2) obtain suggestions and information that may be useful to the scope of issues and alternatives to include in the EIS. This notice further serves to notify the public of the availability of the four HGMPs for comment prior to a decision by NMFS on whether to approve the proposed hatchery programs.

DATES: Written or electronic scoping comments must be received at the appropriate address or email mailbox (see ADDRESSES) no later than 5 p.m. Pacific Time January 30, 2017.

ADDRESSES: Submit your comments by either of the following methods:

• Email to the following address: WillametteHatcheryEIS.wcr@noaa.gov with the following identifier in the subject line: Comments on Intent to Prepare the Willamette Hatchery EIS.

• Mail or hand-deliver to NMFS Sustainable Fisheries Division, 2900 NW. Stewart Parkway, Roseburg, OR 97471.

• Fax to (541) 957-3386.

Instructions: NMFS may not consider comments if they are sent by any other method, to any other address or individual, or received after the comment period ends. All comments received are part of the public record and NMFS will generally post for public viewing on www.regulations.gov without change. All personal identifying information (for example, name, address, etc.) voluntarily submitted by the commenter will be publicly accessible. Do not submit confidential business information or otherwise sensitive or protected information. NMFS will accept anonymous comments (enter “N/A” in the required fields if you wish to remain anonymous).

Additional information to assist with consideration of the notice of intent, as well as the HGMPs themselves, is available on the Internet at www.westcoast.fisheries.noaa.gov.

FOR FURTHER INFORMATION CONTACT: Lance Kruzic, NMFS, by phone at (541) 957-3381, or email to lance.kruzic@noaa.gov.

SUPPLEMENTARY INFORMATION:

ESA-listed Species Covered in This Notice

Chinook salmon (O. tshawytscha): threatened, naturally-produced and specified artificially-produced stocks in the Upper Willamette ESU.

Winter steelhead (O. mykiss): threatened, naturally-produced in the Upper Willamette distinct population segment.

Background

The USACE has submitted four HGMPs for spring Chinook salmon hatchery programs in the Upper Willamette River to NMFS, pursuant to Limit 5 of the 4(d) rule for salmon and steelhead promulgated under the ESA (65 FR 42422; July 10, 2000). Before a decision is made by NMFS on these HGMPs, NEPA requires Federal agencies to conduct environmental analyses of proposed actions to fully consider their effects on the human environment. NMFS's action of evaluating USACE's HGMPs under Limit 5 of the 4(d) Rule is a major Federal action subject to environmental review under NEPA. Therefore, NMFS is seeking public input on the scope of the required NEPA analysis, including the range of reasonable alternatives, recommendations for relevant analysis methods, and information associated with impacts of the alternatives to the resources listed below or other relevant resources.

The hatchery programs considered in the analysis are those rearing and releasing North Santiam, South Santiam, McKenzie, and Middle Fork Willamette hatchery spring Chinook salmon. The EIS will also consider the potential effects of the current summer steelhead program. Hatchery fish are released into the following waterbodies: North Santiam River, South Santiam River, McKenzie River, Middle Fork Willamette River, Molalla River, and Coast Fork Willamette River. A list of all of the hatchery programs, including links to the HGMPs undergoing public comment, is available online (see ADDRESSES).

NMFS will perform an environmental review of the hatchery salmon and steelhead programs and prepare an EIS that will evaluate potentially significant direct, indirect, and cumulative impacts on the following resources identified to have a potential for effect from the proposed action:

• Water quantity and water quality

• Fish and wildlife species and their habitats

• Socioeconomics

• Environmental Justice

• Cumulative impacts

NMFS will rigorously explore and objectively evaluate a full range of reasonable alternatives in the EIS, including the proposed action (implementation of USACE's HGMPs) and a no-action alternative. Additional alternatives could include a reduction in artificial production and/or elimination of the hatchery programs.

For all potentially significant impacts, the EIS will identify measures to avoid, minimize, and mitigate the impacts, where feasible, to a level below significance.

Request for Comments

NMFS provides this notice to: (1) advise other agencies and the public of its plans to analyze effects related to the action, and (2) obtain suggestions and information that may be useful to the scope of issues and the full range of alternatives to include in the EIS.

NMFS invites comment from all interested parties to ensure that the full range of issues related to hatchery salmon and steelhead are identified. Comments should be as specific as possible, with recommendations to address identified issues.

Written comments concerning the proposed action and the environmental review should be directed to NMFS as described above (see ADDRESSES). All comments and materials received, including names and addresses, will become part of the administrative record and may be released to the public.

Authority

The environmental review of the hatchery salmon and steelhead programs will be conducted in accordance with requirements of the NEPA of 1969 as amended (42 U.S.C. 4321 et seq.), NEPA Regulations (40 CFR parts 1500-1508), other appropriate Federal laws and regulations, and policies and procedures of NMFS for compliance with those regulations. This notice is being furnished in accordance with 40 CFR 1501.7 to obtain suggestions and information from other agencies and the public on the scope of issues and alternatives to be addressed in the EIS.

Under section 4 of the ESA, the Secretary of Commerce is required to adopt such regulations as he deems necessary and advisable for the conservation of species listed as threatened. The ESA salmon and steelhead 4(d) rule (65 FR 42422; July 10, 2000, as updated in 70 FR 37160; June 28, 2005) specifies categories of activities that contribute to the conservation of listed salmonids and sets out the criteria for such activities. Limit 5 of the updated 4(d) rule (50 CFR 223.203(b)(5)) further provides that the prohibitions of paragraph (a) of the updated 4(d) rule (50 CFR 223.203(a)) do not apply to activities associated with artificial propagation programs provided that an HGMP has been approved by NMFS to be in accordance with the salmon and steelhead 4(d) rule (65 FR 42422; July 10, 2000, as updated in 70 FR 37160; June 28, 2005).

Dated: December 12, 2016.
Donna S. Wieting,
Director, Office of Protected Resources, National Marine Fisheries Service.

[FR Doc. 2016-30182 Filed 12-14-16; 8:45 am]

BILLING CODE 3510-22-P